DEPARTMENT OF COMMERCE

Foreign-Trade Zones Board

[B-22-2024]

Foreign-Trade Zone (FTZ) 12; Authorization of Production Activity; Uni Ag Group, LLC; (Bulk Premixes); McAllen, Texas

On May 15, 2024, The McAllen Foreign Trade Zone Inc., grantee of FTZ 12, submitted a notification of proposed export production activity to the FTZ Board on behalf of Uni Ag Group, LLC, within FTZ 12 in McAllen, Texas.

The notification was processed in accordance with the regulations of the FTZ Board (15 CFR part 400), including notice in the Federal Register inviting public comment (89 FR 44631, May 21, 2024). On September 12, 2024, the applicant was notified of the FTZ Board's decision that no further review of the activity is warranted at this time. The export-only production activity described in the notification was authorized, subject to the FTZ Act and the FTZ Board's regulations, including section 400.14.

Dated: September 12, 2024.
Elizabeth Whiteman,
Executive Secretary.

[FR Doc. 2024-21100 Filed 9-16-24; 8:45 am]

BILLING CODE 3510-DS-P